DEPARTMENT OF HEALTH AND HUMAN SERVICES

National Institutes of Health

National Institute of Neurological Disorders and Stroke; Amended Notice of Meeting

Notice is hereby given of a change in the meeting of the National Institute of Neurological Disorders and Stroke Special Emphasis Panel, which was published in the Federal Register on November 03, 2022, FR Doc 2022-23900, 87 FR 66315.

This notice is being amended to change the dates of this two-day meeting from November 28-29, 2022, to December 20-21, 2022. The meeting time remains the same. The meeting is closed to the public.

Dated: November 23, 2022.
Tyeshia M. Roberson-Curtis,
Program Analyst, Office of Federal Advisory Committee Policy.

[FR Doc. 2022-26062 Filed 11-29-22; 8:45 am]

BILLING CODE 4140-01-P